DEPARTMENT OF ENERGY

Office of Environmental Management; Environmental Management Advisory Board Meeting

AGENCY: Department of Energy.

ACTION: Notice of open meeting.

SUMMARY: This notice announces a meeting of the Environmental Management Advisory Board (EMAB). The Federal Advisory Committee Act (Public Law 92-463, 86 Stat. 770) requires that public notice of these meetings be announced in the Federal Register.

DATES: Wednesday, March 22, 2006, 9 a.m.-5 p.m., Thursday, March 23, 2006, 9 a.m.-12 p.m.

ADDRESSES: Augusta Towers Hotel and Convention Center, 2652 Perimeter Parkway, Augusta, GA 30909.

FOR FURTHER INFORMATION CONTACT: Terri Lamb, Executive Director of the Environmental Management Advisory Board (EM-30.1), U.S. Department of Energy, 1000 Independence Avenue, SW., Washington, DC 20585. Phone (202) 586-9007; Fax (202) 586-0293 or e-mail: terri.lamb@em.doe.gov.

SUPPLEMENTARY INFORMATION: Purpose of the Meeting: To provide the DOE Assistant Secretary for Environmental Management with information, advice, and recommendations concerning issues affecting the EM program.

The Board will contribute to the effective operation of the Environmental Management Program by providing individual citizens and representatives of interested groups an opportunity to present their views on issues facing the Office of Environmental Management and by helping to secure advice on those issues.

Tentative Agenda

Wednesday, March 22, 2006

9 a.m. Welcome and Remarks; Opening Remarks; EM Program Update; EM Re-Organization; Human Capital Development Presentation; Roundtable Discussion; Public Comment Period

12 p.m. Lunch Break

1 p.m. Waste Disposition and Strategy Presentation; Roundtable Discussion; Lessons Learned from Small Business Contracting; Roundtable Discussion; Public Comment Period

5 p.m. Adjournment

Thursday, March 23, 2006

9 a.m. Board Business

11:30 p.m. Public Comment

12 p.m. Adjournment

Public Participation: The meeting is open to the public. Written statements may be filed with the Board either before or after the meeting. Individuals who wish to make oral statements pertaining to agenda items should contact Terri Lamb at the address or telephone number above. Requests must be received five days prior to the meeting and reasonable provision will be made to include the presentation in the agenda. Those who call in and register in advance will be given the opportunity to speak first. Others will be accommodated as time permits. The Board Chair is empowered to conduct the meeting in a fashion that will facilitate the orderly conduct of business. Individuals wishing to make public comment will be provided a maximum of five minutes to present their comments.

Minutes: The minutes of the meeting will be available for viewing and copying at the U.S. Department of Energy Freedom of Information Public Reading Room, 1E-190, Forrestal Building, 1000 Independence Avenue, SW., Washington, DC 20585 between 9:00 a.m. and 4 p.m., Monday-Friday except Federal holidays. Minutes will also be available by calling Terri Lamb at (202) 586-9007. Board meeting minutes are posted on the EMAB Web site within one month following each meeting at: http://web.em.doe.gov/emab/products.html.

Issued at Washington, DC on February 15, 2006.
Rachel M. Samuel,
Deputy Advisory Committee Management Officer.

[FR Doc. E6-2402 Filed 2-17-06; 8:45 am]

BILLING CODE 6450-01-P